DEPARTMENT OF COMMERCE

Foreign-Trade Zones Board

[S-139-2016]

Approval of Subzone Status; Romark Global Pharma, LLC Manatí, Puerto Rico

On September 29, 2016, the Executive Secretary of the Foreign-Trade Zones (FTZ) Board docketed an application submitted by the Puerto Rico Industrial Development Company, grantee of FTZ 7, requesting subzone status subject to the existing activation limit of FTZ 7 on behalf of Romark Global Pharma, LLC, in Manatí, Puerto Rico.

The application was processed in accordance with the FTZ Act and Regulations, including notice in the Federal Register inviting public comment (81 FR 69039, October 5, 2016). The FTZ staff examiner reviewed the application and determined that it meets the criteria for approval.

Pursuant to the authority delegated to the FTZ Board's Executive Secretary (15 CFR 400.36(f)), the application to establish Subzone 7P is approved, subject to the FTZ Act and the Board's regulations, including Section 400.13, and further subject to FTZ 7's 2,000-acre activation limit.

Dated: December 6, 2016.
Andrew McGilvray,
Executive Secretary.

[FR Doc. 2016-29616 Filed 12-9-16; 8:45 am]

BILLING CODE 3510-DS-P